DEPARTMENT OF LABOR

Occupational Safety and Health Administration

29 CFR Parts 1910, 1915, and 1926

[Docket No. H054A]

RIN 1218-AB45

Occupational Exposure to Hexavalent Chromium; Corrections

AGENCY: Occupational Safety and Health Administration (OSHA), Department of Labor.

ACTION: Correcting amendments.

SUMMARY: The Occupational Safety and Health Administration (OSHA) is correcting errors in the final rule addressing occupational exposure to hexavalent chromium that appeared in the Federal Register on February 28, 2006.

DATES: Effective June 23, 2006.

FOR FURTHER INFORMATION CONTACT: Mr. Kevin Ropp, Director, OSHA Office of Communications, Room N-3647, U.S. Department of Labor, 200 Constitution Avenue, NW., Washington, DC 20210; telephone (202) 693-1999.

SUPPLEMENTARY INFORMATION: On February 28, 2006 (71 FR 10099), OSHA issued a revised standard for occupational exposure to hexavalent chromium. Subsequently, errors were discovered in the regulatory text. This notice is being published to correct these errors.

Correction of Publication

The following correcting amendments are made to the final rule for Chromium (VI) published in the Federal Register on February 28, 2006 (71 FR 10099).

Accordingly, 29 CFR parts 1910, 1915, and 1926 are corrected by making the following correcting amendments.

PART 1910—OCCUPATIONAL SAFETY AND HEALTH STANDARDS

1. The authority citation for part 1910 continues to read as follows:

Authority: Secs. 4, 6, 8, Occupational Safety and Health Act of 1970 (29 U.S.C. 653, 655, 657); Secretary of Labor's Order Numbers 12-71 (36 FR 8754), 8-76 (41 FR 25059), 9-83 (48 FR 35736), 1-90 (55 FR 9033), 6-96 (62 FR 111), or 5-2002 (67 FR 65008), as applicable.

2. Section 1910.1000 is corrected as follows:

a. In Table Z-1 by revising the entry for “tert-Butyl chromate (as CrO3)” and footnote 5, removing the entry for “Chromic acid and chromates (as CrO3)”, and adding a new footnote 6;

b. In Table Z-2 by revising footnote c.

The revisions and additions read as follows:

§ 1910.1000 Air contaminants.

* * * * *

Table Z-1.—Limits for Air Contaminants
Substance | CAS No.ᶜ | ppm ᵃ ¹ | mg/m³ b1 | Skin designation
* * * * * * *
tert-Butyl chromate (as CrO3); see 1910.1026 ⁶ | 1189-85-1
* * * * * * *
Chromium (VI) compounds; see 1910.1026 ⁵.
* * * * * * *
¹ The PELs are 8-hour TWAs unless otherwise noted; a (C) designation denotes a ceiling limit. They are to be determined from breathing-zone air samples.
ᵃ Parts of vapor or gas per million parts of contaminated air by volume at 25 °C and 760 torr.
ᵇ Milligrams of substance per cubic meter of air. When entry is in this column only, the value is exact; when listed with a ppm entry, it is approximate.
ᶜ The CAS number is for information only. Enforcement is based on the substance name. For an entry covering more than one metal compound, measured as the metal, the CAS number for the metal is given—not CAS numbers for the individual compounds.
* * * * *
⁵ See Table Z-2 for the exposure limit for any operations or sectors where the exposure limit in § 1910.1026 is stayed or is otherwise not in effect.
⁶ If the exposure limit in § 1910.1026 is stayed or is otherwise not in effect, the exposure limit is a ceiling of 0.1 mg/m³.

Table Z-2
Substance | 8-hour time weighted average | Acceptable ceiling concentration | Acceptable maximum peak above the acceptable ceiling concentration for an 8-hr shift: Concentration | Acceptable maximum peak above the acceptable ceiling concentration for an 8-hr shift: Maximum duration
* * * * * * *
Chromic acid and chromates (Z37.7-1971) (as CrO3) ᶜ |  | 1 mg/10m³
* * * * * * *
* * * * *
ᶜ This standard applies to any operations or sectors for which the exposure limit in the Chromium (VI) standard, § 1910.1026, is stayed or is otherwise not in effect.

* * * * *

PART 1915—OCCUPATIONAL SAFETY AND HEALTH STANDARDS FOR SHIPYARD EMPLOYMENT

3. The authority citation for part 1915 continues to read as follows:

Authority: Section 41, Longshore and Harbor Workers' Compensation Act (33 U.S.C. 941); sections 4, 6, 8, Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017) or 5-2002 (67 FR 65008), as applicable.

4. Section 1915.1000 is corrected in Table Z by revising the entry for “tert-Butyl chromate (as CrO3)”, removing the entry for “Chromic acid and chromates (as CrO3)”, and adding an entry for “Chromium (VI) compounds.”

The revisions and additions read as follows:

§ 1915.1000 Air contaminants.

* * * * *

Table Z.—Shipyards
Substance | CAS No.ᵈ | ppma ᵃ * | mg/m³ ᵇ * | Skin designation
* * * * * * *
tert-Butyl chromate (as CrO3); see 1915.1026 ⁿ | 1189-85-1
* * * * * * *
Chromium (VI) compounds; see 1915.1026 ᵒ.
* * * * *
* The PELs are 8-hour TWAs unless otherwise noted; a (C) designation denotes a ceiling limit. They are to be determined from breathing-zone air samples.
ᵃ Parts of vapor or gas per million parts of contaminated air by volume at 25 °C and 760 torr.
ᵇ Milligrams of substance per cubic meter of air. When entry is in this column only, the value is exact; when listed with a ppm entry, it is approximate.
* * * * *
ᵈ The CAS number is for information only. Enforcement is based on the substance name. For an entry covering more than one metal compound, measured as the metal, the CAS number for the metal is given—not CAS numbers for the individual compounds.
* * * * *
ⁿ If the exposure limit in § 1915.1026 is stayed or is otherwise not in effect, the exposure limit is a ceiling of 0.1 mg/m³.
ᵒ If the exposure limit in § 1915.1026 is stayed or is otherwise not in effect, the exposure limit is 0.1 mg/m³ (as CrO3) as an 8-hour TWA.

PART 1926—SAFETY AND HEALTH REGULATIONS FOR CONSTRUCTION

5. The authority citation for part 1926 continues to read as follows:

Authority: Section 107, Contract Work Hours and Safety Standards Act (Construction Safety Act) (40 U.S.C. 333); secs. 4, 6, 8, Occupational Safety and Health Act of 1970 (29 U.S.C. 653, 655, 657); Secretary of Labor's Order 12-71 (36 FR 8754), 8-76 (41 FR 25059), 1-90 (55 FR 9033),), or 6-96 (62 FR 111), as applicable; 29 CFR part 1911.

6. Section 1926.55 is corrected in Appendix A by revising the entry for “tert-Butyl chromate (as CrO3)”, removing the entry for “Chromic acid and chromates (as CrO3)”, and adding an entry for “Chromium (VI) compounds.”

The revisions and additions read as follows:

§ 1926.55 Gases, vapors, fumes, dusts, and mists.

* * * * *

Appendix A to § 1926.55—1970 American Conference of Governmental Industrial Hygienists’ Threshold Limit Values of Airborne Contaminants

Threshold Limit Values of Airborne Contaminants for Construction
Substance | CAS No. ᵈ | ppm ᵃ | mg/m³ ᵇ | Skin designation
* * * * * * *
tert-Butyl chromate (as CrO3); see 1926.1126 ⁿ | 1189-85-1
* * * * * * *
Chromium (VI) compounds; See 1926.1126 ᵒ.
* * * * * * *
* * * * *
³ Use Asbestos Limit § 1926.58.
* * * * *
ᵃ Parts of vapor or gas per million parts of contaminated air by volume at 25 °C and 760 torr.
ᵇ Milligrams of substance per cubic meter of air. When entry is in this column only, the value is exact; when listed with a ppm entry, it is approximate.
* * * * *
ᵈ The CAS number is for information only. Enforcement is based on the substance name. For an entry covering more than one metal compound, measured as the metal, the CAS number for the metal is given—not CAS numbers for the individual compounds.
* * * * *
ⁿ If the exposure limit in § 1926.1126 is stayed or is otherwise not in effect, the exposure limit is a ceiling of 0.1 mg/m³.
ᵒ If the exposure limit in § 1926.1126 is stayed or is otherwise not in effect, the exposure limit is 0.1 mg/m³ (as CrO3) as an 8-hour TWA.

Signed at Washington, DC, this 15th day of June, 2006.
Edwin G. Foulke, Jr.,
Assistant Secretary of Labor.

[FR Doc. 06-5590 Filed 6-22-06; 8:45 am]

BILLING CODE 4510-26-P